DEPARTMENT OF THE INTERIOR

Bureau of Land Management

[LLMT926000-L14200000-BJ0000]

Notice of Filing of Plats of Survey; Montana

AGENCY: Bureau of Land Management, Interior.

ACTION: Notice of filing of plats of survey.

SUMMARY: The Bureau of Land Management (BLM) will file the plat of survey of the lands described below in the BLM Montana State Office, Billings, Montana, on November 19, 2012.

DATES: Protests of the survey must be filed before November 19, 2012 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009, Marvin_Montoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Regional Realty Officer, Northwest Region, Bureau of Indian Affairs, Portland, Oregon, and was necessary to determine individual and tribal trust lands.

The lands we surveyed are:

Principal Meridian, Montana

T. 22 N., R. 20 W.

The plat, in seven sheets, representing the dependent resurvey of portions of the south and east boundaries, the subdivisional lines, the adjusted original meanders of the former left and right banks of the Flathead River, downstream, through sections 5 and 8, the meanders of North and South Pablo and Polson Reservoirs (fixed and limiting boundaries) and the subdivision of certain sections, and the survey of a portion of the southerly right-of-way of U.S. Highway 93 in section 4, certain parcels in sections 4 and 17 and a metes and bounds description, Tract A, in section 29, Township 22 North, Range 20 West, Principal Meridian, Montana was accepted September 28, 2012.

We will place a copy of the plat, in seven sheets, and related field notes we described in the open files. They will be available to the public as a matter of information. If the BLM receives a protest against this survey, as shown on this plat, in seven sheets, prior to the date of the official filing, we will stay the filing pending our consideration of the protest. We will not officially file this plat, in seven sheets, until the day after we have accepted or dismissed all protests and they have become final, including decisions or appeals.

Authority: 43 U.S.C. chapter 3.

James D. Claflin,
Chief Cadastral Surveyor, Division of Resources.

[FR Doc. 2012-25705 Filed 10-17-12; 8:45 am]

BILLING CODE P